DEPARTMENT OF AGRICULTURE

Rural Utilities Service

Announcement of Grant Awards Under the RUS Distance Learning and Telemedicine Grant Program

AGENCY: Rural Utilities Service, USDA.

ACTION: Notice of applications selected to receive grant awards.

SUMMARY: The Rural Utilities Service (RUS) hereby announces the recipients selected to receive grant awards during fiscal year (FY) 2004 under the Distance Learning and Telemedicine Grant Program.

ADDRESSES: Subject to the provisions of the Freedom of Information Act (5 U.S.C. 552), applications will be available for public inspection at the U.S. Department of Agriculture, 1400 Independence Avenue, SW., Washington, DC 20250.

FOR FURTHER INFORMATION CONTACT: Gary B. Allan, Branch Chief, Universal Services Branch, U.S. Department of Agriculture, Rural Utilities Service. Telephone: (202) 720-0413, Fax (202) 720-1051, dltinfo@usda.gov. The list of awards may be viewed on the Internet at http://www.usda.gov/rus/telecom/dlt/dlt.htm.

SUPPLEMENTARY INFORMATION:

Pursuant to 7 CFR 1703.101, RUS hereby publishes the names of the 62 organizations that have been awarded $24.6 million in grants under 7 CFR part 1703, subpart D, Distance Learning and Telemedicine Grant Program. The recipients are as follows:

State | Organization | Amount
AK | Chatham School District | $472,579
AK | Haines Borough School District | $499,999
AK | Kuspuk School District | $411,913
AL | Escambia County School District | $499,869
AR | McGehee School District | $361,687
AR | Osceola School District | $408,442
AR | Pocahontas School District | $461,521
AS | KVZK-TV, Office of Public Information | $499,794
AZ | Arizona Western College | $500,000
CA | West Hills Community College | $447,752
CO | East Central BOCES | $452,154
DE | Seaford School District | $ 78,156
FL | Florida Department of Health | $236,180
GA | Northeast Health Systems, Inc. | $176,774
GU | Pacific Island Bible College | $230,635
HI | Kona Hospital Foundation | $500,000
IA | Wayne County Hospital | $422,278
ID | St. Mary's Hospital | $500,000
IL | St. Francis Hospital of Hospital Systems of the Third Order of St. Francis | $310,000
IN | Southwest Dubois County School Corp. LEA for: Southern Indiana Education Center | $370,416
KS | Maude Norton Memorial City Hospital Board of Trustees | $198,000
KY | Morehead State University | $499,153
KY | Saint Joseph Hospital Foundation | $235,636
LA | Primary Care Providers for a Healthy Feliciana | $500,000
MA | The Brigham and Women's Hospital, Inc. | $471,197
ME | Visiting Nurse of Aroostook | $264,448
MI | Harbor Beach Community School District | $446,865
MI | Marquette General Health System | $176,421
MI | Mid-Michigan Visiting Nurse Association | $215,519
MN | Minnesota Tele-Media | $482,791
MO | Hale Public Schools | $389,809
MS | Delta State University | $500,000
MS | East Tallahatchie School District | $500,000
MS | North Bolivar School District | $500,000
MT | St. Luke and Nursing Home | $500,000
NC | Warren County Schools—Roanoke River Valley Education Consortium | $445,143
ND | North Dakota Healthcare Foundation | $395,747
NE | Good Samaritan Hospital Foundation | $284,766
NH | Southeastern Regional Education Service Center, Inc. (SERESC) | $499,965
NJ | Rutgers, The State of New Jersey | $497,906
NM | Central Consolidated School District #22 | $490,910
NM | Northeast Regional Education Cooperative | $398,936
NM | Northwest Regional Education Center 2 | $500,000
NV | White Pine County School District | $493,544
NY | Cattaraugus-Allegany-Erie-Wyoming BOCES | $498,979
OH | Adams County Hospital | $300,000
OK | Guymon School District | $359,439
OK | Miami Tribe Business Development Authority | $157,937
OK | Wapanucka Public School | $497,500
OR | St. Charles Medical Center Foundation | $431,302
PA | Lewistown Hospital | $500,000
SC | Orangeburg Consolidated School District Four | $500,000
SD | Horizon Health Care, Inc. | $202,720
TN | University of Tennessee at Martin | $499,999
TX | CHRISTUS St. Michael Health System | $500,000
TX | Educational Service Center Region XV | $462,271
TX | Frank Phillips College | $429,840
UT | University of Utah | $208,899
VT | Rutland Area Visiting Nurse Association & Hospice | $238,250
WA | Community Choice PHCO | $499,332
WI | Space Education Initiative, Inc. | $218,400
WV | Southern West Virginia Community and Technical College | $372,900

Dated: October 10, 2004.
James R. Newby,
Acting Administrator, Rural Utilities Service.

[FR Doc. 04-23202 Filed 10-15-04; 8:45 am]

BILLING CODE 3410-15-P